DEPARTMENT OF COMMERCE

International Trade Administration

[A-552-802]

Certain Frozen Warmwater Shrimp From the Socialist Republic of Vietnam: Final Results and Final Determination of No Shipments of Antidumping Duty Administrative Review; 2021-2022

AGENCY: Enforcement and Compliance, International Trade Administration, Department of Commerce.

SUMMARY: The U.S. Department of Commerce (Commerce) determines that four companies under review made no shipments of the subject merchandise during the period of review (POR). Commerce also determines that no other companies under review qualify for a separate rate, and that these companies are, therefore, considered part of the Vietnam-Wide entity. The period of review (POR) is February 1, 2021, through January 31, 2022.

DATES: Applicable May 4, 2023.

FOR FURTHER INFORMATION CONTACT: Jonathan Schueler or Katie Marksberry, AD/CVD Operations, Office VIII, Enforcement and Compliance, International Trade Administration, U.S. Department of Commerce, 1401 Constitution Avenue NW, Washington, DC 20230; telephone: (202) 482-9175, or (202) 482-7906, respectively.

SUPPLEMENTARY INFORMATION:

Background

On January 3, 2023, Commerce published in the Federal Register the preliminary results ¹ of the administrative review of the antidumping duty order on certain frozen warmwater shrimp from the Socialist Republic of Vietnam (Vietnam). This review covers 96 companies preliminarily determined to be part of the Vietnam-wide entity and four companies preliminarily determined to have no reviewable transactions during the POR. We invited parties to comment on the Preliminary Results.² No interested party submitted comments. Accordingly, the final results are unchanged from the Preliminary Results. Commerce conducted this administrative review in accordance with section 751(a) of the Tariff Act of 1930, as amended (the Act).

¹ See Certain Frozen Warmwater Shrimp from the Socialist Republic of Vietnam: Preliminary Results, Partial Rescission, and Preliminary Determination of No Shipments of Antidumping Duty Administrative Review; 2021-2022, 88 FR 58 (January 3, 2023) (Preliminary Results).

² Id.

Scope of the Order ³

³ See Notice of Amended Final Determination of Sales at Less Than Fair Value and Antidumping Duty Order: Certain Frozen Warmwater Shrimp from the Socialist Republic of Vietnam, 70 FR 5152 (February 1, 2005) (Order).

The merchandise subject to the Order is certain frozen warmwater shrimp from Vietnam. For a full description of the scope of the Order, see the Preliminary Results.⁴

⁴ See Preliminary Results, 88 FR at 59 and Appendix I.

Final Determination of No Shipments

In the Preliminary Results, Commerce found that four companies: (1) BIM Foods Joint Stock Company; (2) Minh Phu Hau Giang Seafood; (3) Minh Phu Seafood Corporation; and (4) Minh Qui Seafood Co., Ltd,⁵ did not have any reviewable transactions during the POR. As we have not received any information to contradict this preliminary finding, Commerce determines that these four companies did not have any reviewable entries of subject merchandise during the POR and will issue instructions that are consistent with our “automatic assessment” policy, described below.

⁵ As stated in the Preliminary Results, shrimp produced and exported by Minh Phu Hau Giang Seafood, Minh Phu Seafood Corporation, and Minh Qui Seafood Co., Ltd., among others, were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for these three exporters only with respect to subject merchandise produced by another entity. See Initiation of Antidumping and Countervailing Duty Administrative Reviews, 87 FR 21619 (April 12, 2022) (footnotes 8 through 10).

Final Results of Administrative Review

As no parties submitted comments regarding the Preliminary Results, Commerce made no changes to its determinations for the final results of this review. For these final results, Commerce continues to find that the only three companies that submitted separate rate applications in this review did not establish eligibility for a separate rate.⁶ Based on the above information, Commerce has not calculated any dumping margins for any companies under review, nor has Commerce granted separate rates to any companies under review. Commerce continues to find that that the 96 companies under review, including the three companies discussed above, are part of the Vietnam-wide entity, and are subject to the Vietnam-wide entity rate of 25.76 percent (see Appendix).

⁶ These three companies are: (1) Quang Minh Seafood Co., Ltd. (Quang Minh); (2) Safe and Fresh Aquatic Products Joint Stock Company (Safe Fresh Aquatic); and (3) Ngoc Trinh Bac Lieu Seafood Co., Ltd. (Ngoc Trinh). Quang Minh and Ngoc Trinh submitted separate rate applications and were selected as mandatory respondents in this review, but subsequently withdrew from the review. Safe Fresh Aquatic submitted a separate rate application but also subsequently withdrew from the review. See Preliminary Results for the complete discussion.

Because no party requested a review of the Vietnam-wide entity, and we did not self-initiate a review, the Vietnam-wide entity rate (i.e., 25.76 percent) ⁷ is not subject to change as a result of this review.

⁷ See Order.

Assessment Rates

Pursuant to section 751(a)(2)(A) of the Act and 19 CFR 351.212(b)(1), Commerce will determine, and U.S. Customs and Border Protection (CBP) shall assess, antidumping duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We have not calculated any assessment rates in this administrative review. With regard to the 96 companies identified in the Appendix as part of the Vietnam-wide entity, we will instruct CBP to apply an ad valorem assessment rate of 25.76 percent to all entries of subject merchandise during the POR which were produced and/or exported by those companies. Additionally, with respect to the four companies which Commerce determined made no shipments of the subject merchandise during the POR, consistent with Commerce's assessment practice in non-market economy (NME) cases, we will instruct CBP to liquidate any suspended entries that entered under that exporter's case number (i.e., at that exporter's rate) at the NME-wide rate.⁸

⁸ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) for previously investigated or reviewed Vietnamese and non-Vietnamese exporters that are not under review in this segment of the proceeding but have separate rates, the cash deposit rate will continue to be the exporter's existing cash deposit rate; (2) for all Vietnam exporters of subject merchandise that have not been found to be entitled to a separate rate, the cash deposit rate will be the existing rate for the Vietnam-wide entity of 25.76 percent; and (3) for all non-Vietnam exporters of subject merchandise which have not received their own rate, the cash deposit rate will be the rate applicable to the Vietnam exporter that supplied that non-Vietnam exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These final results are issued and published in accordance with sections 751(a)(1)(B) and 777(i)(1) of the Act and 19 CFR 351.221(b)(5).

Dated: April 28, 2023.
Ryan Majerus,
Deputy Assistant Secretary for Policy and Negotiations.

Appendix

Companies Under Review Determined to Be Part of the Vietnam-Wide Entity

1. Amanda Seafood Co., Ltd.

2. An Nguyen Investment Production and Group

3. Anh Khoa Seafood

4. Anh Minh Quan Corp.

5. APT Co.

6. Au Vung One Seafood

7. Binh Dong Fisheries Joint Stock Company

8. Binh Thuan Import-Export Joint Stock Company

9. Blue Bay Seafood Co., Ltd.

10. Cadovimex

11. Cadovimex II Seafood Import Export and Processing Joint Stock Company

12. Cadovimex Seafood Import-Export and Processing Joint Stock Company

13. Cantho Import Export Seafood Joint Stock Company

14. Caseamex

15. CJ Cau Tre Foods Joint Stock Company

16. Coastal Fisheries Development Corporation

17. COFIDEC

18. Danang Seafood Import Export

19. Danang Seaproducts Import-Export Corporation

20. Dong Hai Seafood Limited Company

21. Dong Phuong Seafood Co., Ltd.

22. Duc Cuong Seafood Trading Co., Ltd.

23. Duong Hung Seafood

24. FFC

25. Fine Foods Company

26. Gallant Dachan Seafood Co., Ltd.

27. Gallant Ocean (Vietnam) Co. Ltd.

28. Go Dang Joint Stock Company

29. GODACO Seafood

30. Green Farms Seafood Joint Stock Company

31. Hanh An Trading Service Co., Ltd.

32. Hong Ngoc Seafood Co., Ltd.

33. Hung Bang Company Limited

34. Hung Dong Investment Service Trading Co., Ltd.

35. HungHau Agricultural Joint Stock Company

36. JK Fish Co., Ltd.

37. Khanh Hoa Seafoods Exporting Company

38. KHASPEXCO

39. Long Toan Frozen Aquatic Products Joint Stock Company

40. MC Seafood

41. Minh Bach Seafood Company Limited

42. Minh Cuong Seafood Import Export Processing Joint Stock Company

43. Nam Viet Seafood Import Export Joint Stock Company

44. Namcan Seaproducts Import Export Joint Stock Company

45. New Generation Seafood Joint Stock Company

46. New Wind Seafood Co., Ltd.

47. Ngoc Trinh Bac Lieu Seafood Co., Ltd.

48. Nguyen Chi Aquatic Product Trading Company Limited

49. Nhat Duc Co., Ltd.

50. Nigico Co., Ltd.

51. Phuong Nam Foodstuff Corp.

52. Quang Minh Seafood Co., Ltd.

53. QAIMEXCO

54. Quoc Ai Seafood Processing Import Export Co., Ltd.

55. Quoc Toan PTE

56. Quoc Toan Seafood Processing Factory

57. Quy Nhon Frozen Seafoods Joint Stock Company

58. Safe and Fresh Aquatic Products Joint Stock Company

59. Safe and Fresh Co.

60. Saigon Aquatic Product Trading Joint Stock Company

61. Saigon Food Joint Stock Company

62. SEADANANG

63. Seafood Joint Stock Company No. 4

64. Seafood Travel Construction Import-Export Joint Stock Company

65. Seanamico

66. Seaspimex Vietnam

67. South Ha Tinh Seaproducts Import-Export Joint Stock Company

68. South Vina Shrimp-SVS

69. Southern Shrimp Joint Stock Company

70. Special Aquatic Products Joint Stock Company

71. T & P Seafood Company Limited

72. Tai Nguyen Seafood Co., Ltd.

73. Tan Phong Phu Seafood Co., Ltd.

74. Tan Thanh Loi Frozen Food Co., Ltd.

75. THADIMEXCO

76. Thai Hoa Foods Joint Stock Company

77. Thai Minh Long Seafood Company Limited

78. Thaimex

79. Thanh Doan Fisheries Import-Export Joint Stock Company

80. Thanh Doan Sea Products Import & Export Processing Joint-Stock Company

81. Thanh Doan Seafood Import Export Trading Joint-Stock Company

82. The Light Seafood Company Limited

83. Thien Phu Export Seafood

84. Thinh Hung Co., Ltd.

85. Thinh Phu Aquatic Products Trading Co., Ltd.

86. TPP Co. Ltd.

87. Trading and Import-Export Co., Ltd.

88. Trang Corporation (Vietnam)

89. Trung Son Seafood Processing Joint Stock Company

90. Van Duc Food Company Limited

91. Viet Phu Foods and Fish Corp.

92. Viet Shrimp Corporation

93. VIFAFOOD

94. Vinh Hoan Corp.

95. Vinh Phat Food Joint Stock Company

96. XNK Thinh Phat Processing Company

[FR Doc. 2023-09509 Filed 5-3-23; 8:45 am]

BILLING CODE 3510-DS-P